ENVIRONMENTAL PROTECTION AGENCY

[ER-FRL-6663-2]

Environmental Impact Statements and Regulations; Availability of EPA Comments

Availability of EPA comments prepared pursuant to the Environmental Review Process (ERP), under section 309 of the Clean Air Act and Section 102(2)(c) of the National Environmental Policy Act, as amended. Requests for copies of EPA comments can be directed to the Office of Federal Activities at 202-564-7167.

An explanation of the ratings assigned to draft environmental impact statements (EISs) was published in Federal Register dated April 1, 2005 (70 FR 16815).

Draft EISs

EIS No. 20050075, ERP No. D-FRC-C03015-00, Crown Landing Liquefied Natural Gas Terminal, Construct and Operate in Gloucester County, NJ and New Castle County, DE; and Logan Lateral Project, Construct and Operate a New Natural Gas Pipeline and Ancillary Facilities in Gloucester County, NJ and Delaware, PA

Summary: EPA expressed concerns that the Draft EIS did not include detailed mitigation plans, a discussion of Clean Air Act general conformity requirements, and did not thoroughly analyze the cumulative effects on navigation and the environment. Rating EC2.

EIS No. 20050093, ERP No. D-NOA-K39091-CA, Monterey Accelerated Research Systems (MARS) Cabled Observatory, Proposes to Install and Operate an Advanced Undersea Cabled Observatory, Monterey Bay, Pacific Ocean Offshore of Moss Landing, Monterey County, CA

Summary: EPA had no objections to the project as proposed. Rating LO.

Final EISs

EIS No. 20050123, ERP No. FB-NOA-E91007-00, South Atlantic Shrimp Fishery Management Plan, Amendment 6, Propose to Amend the Bycatch Reduction Device (BRD) Testing Protocol System, South Atlantic Region

Summary: EPA had no objection to the project as proposed.

EIS No. 20050115, ERP No. FS-NRC-E06023-AL, Generic EIS—License Renewal of Nuclear Plants, Joseph M. Farley Nuclear Plants, Units 1 and 2, Supplemental 18 to NUREG-1437 (TAC NOS. MC0768 and MC0769; Houston County, AL

Summary: EPA continues to have environmental concerns about the availability of long-term offsite storage of radioactive waste, and future surface water withdrawals for plant operations which could be affected by State agreements. Radiological monitoring of all plant effluents, and appropriate storage of radioactive waste will be necessary during the license renewal period.

Dated: May 2, 2005.
Robert W. Hargrove,
Director, NEPA Compliance Division, Office of Federal Activities.

[FR Doc. 05-9120 Filed 5-5-05; 8:45 am]

BILLING CODE 6560-50-P